DEPARTMENT OF HEALTH AND HUMAN SERVICES

Administration for Children and Families

Notice of Allotment Percentages to States for Child Welfare Services State Grants; CFDA Number: 93.645

AGENCY: Children's Bureau, Administration on Children, Youth and Families, Administration for Children and Families, Department of Health and Human Services.

ACTION: Notice of biennial publication of allotment percentages for States under the Title IV-B subpart 1, Stephanie Tubbs Jones Child Welfare Services Program.

SUMMARY: As required by section 423(c) of the Social Security Act, the Department is publishing the allotment percentage for each State under the Title IV-B Subpart 1, Stephanie Tubbs Jones Child Welfare Services Program. Under section 423(a), the allotment percentages are one of the factors used in the computation of the Federal grants awarded under the Program.

DATES: The allotment percentages will be effective for Federal Fiscal Years 2020 and 2021.

FOR FURTHER INFORMATION CONTACT: Daniel Jackson, Grants Fiscal Management Specialist, Office of Grants Management, Office of Administration, Administration for Children and Families, 330 C St. SW, Washington, DC 20201. Telephone: (202) 401-3446. Email: daniel.jackson@acf.hhs.gov.

SUPPLEMENTARY INFORMATION: The allotment percentage for each State is determined on the basis of paragraphs (b) and (c) of section 423 of the Social Security Act. These figures are available on the ACF internet homepage at https://www.acf.hhs.gov/cb. The allotment percentage for each State is as follows:

Allotment
State | Percentage
Alabama | 60.54
Alaska | 43.36
Arizona | 59.19
Arkansas | 60.16
California | 42.50
Colorado | 47.06
Connecticut | 30.25
Delaware | 51.62
District of Columbia | 30.00
Florida | 53.73
Georgia | 57.38
Hawaii | 49.16
Idaho | 59.41
Illinois | 47.37
Indiana | 56.44
Iowa | 53.57
Kansas | 52.37
Kentucky | 60.43
Louisiana | 57.09
Maine | 55.15
Maryland | 41.34
Massachusetts | 34.73
Michigan | 55.31
Minnesota | 47.14
Mississippi | 64.24
Missouri | 56.32
Montana | 55.77
Nebraska | 49.84
Nevada | 55.23
New Hampshire | 42.83
New Jersey | 37.84
New Mexico | 61.06
New York | 38.63
North Carolina | 57.20
North Dakota | 47.32
Ohio | 54.67
Oklahoma | 56.55
Oregon | 53.59
Pennsylvania | 48.50
Rhode Island | 48.88
South Carolina | 59.65
South Dakota | 51.47
Tennessee | 56.03
Texas | 53.39
Utah | 57.96
Vermont | 49.37
Virginia | 46.44
Washington | 44.42
West Virginia | 62.68
Wisconsin | 52.48
Wyoming | 43.49
America Samoa | 70.00
Guam | 70.00
Puerto Rico | 70.00
N. Mariana Islands | 70.00
Virgin Islands | 70.00

Statutory Authority: Section 423(c) of the Social Security Act (42 U.S.C. 623(c)).

Elizabeth Leo,
Grants Policy Specialist, Division of Grants Policy, Office of Administration.

[FR Doc. 2018-25932 Filed 11-28-18; 8:45 am]

BILLING CODE 4184-01-P